DEPARTMENT OF ENERGY

[FE Docket No. 03-04-NG, 03-06-NG, 03-05-LNG, and 03-07-NG]

Office of Fossil Energy; Petro-Canada Hydrocarbons Inc., Powerex Corp., BP Energy Company, TotalFinaElf Gas & Power North America, Inc.; Orders Granting Authority To Import and Export Natural Gas, Including Liquefied Natural Gas

AGENCY: Office of Fossil Energy, DOE.

ACTION: Notice of orders.

SUMMARY: The Office of Fossil Energy (FE) of the Department of Energy gives notice that during February 2003, it issued Orders granting authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on March 4, 2003.
Clifford P. Tomaszewski,
Manager, Natural Gas Regulation, Office of Natural Gas & Petroleum Import & Export Activities, Office of Fossil Energy.

Appendix

Orders Granting Import/Export Authorizations
[DOE/FE Authority]
Order No. | Date issued | Importer/Exporter FE Docket No. | Import volume | Export volume | Comments
1851 | 2-5-03 | Petro-Canada Hydrocarbons 03-04-NG | 300 Bcf |  | Import natural gas from Canada, beginning on March 4, 2003, and extending through March 3, 2005.
1852 | 2-11-03 | Powerex Corp., 03-06-NG | (1) 60 Bcf |  | Import and export a combined total of natural gas from and to Canada, beginning on March 1, 2003, and extending through February 28, 2005.
1853 | 2-20-03 | BP Energy Company 03-05-LNG | 1,200 Bcf |  | Import LNG from various international sources beginning on August 22, 2002, and extending through August 21, 2004.
1854 | 2-20-03 | TotalFinaElf Gas & Power North America, Inc., 03-07-NG | 100 Bcf 200 Bcf | 100 Bcf | Import a combined total of natural gas to Canada and Mexico, and export a combined total of natural gas from Canada and Mexico, and to import LNG from various international sources beginning on February 23, 2002, and extending through February 22, 2005.

[FR Doc. 03-5865 Filed 3-11-03; 8:45 am]

BILLING CODE 6450-01-P